DEPARTMENT OF ENERGY

Federal Energy Regulatory Commission

[Docket No. CP05-420-000]

Bayou Casotte Energy, LLC; Notice of Availability of the Draft Environmental Impact Statement for the Casotte Landing LNG Project

May 19, 2006.

The staff of the Federal Energy Regulatory Commission (FERC or Commission) has prepared this draft Environmental Impact Statement (EIS) for the construction and operation of the liquefied natural gas (LNG) import terminal and natural gas pipeline facilities, referred to as the Casotte Landing LNG Project, as proposed by Bayou Casotte Energy, LLC in the above-referenced docket.

This draft EIS was prepared to satisfy the requirements of the National Environmental Policy Act. The staff concludes that approval of the Casotte Landing LNG Project, with appropriate mitigating measures as recommended, would have limited adverse environmental impact. The draft EIS evaluates alternatives to the proposal, including system alternatives, alternative sites for the LNG import terminal, and pipeline alternatives. The draft EIS also contains our Essential Fish Habitat Assessment.

The general purpose of the Casotte Landing LNG Project is to provide up to 1.6 billion cubic feet per day of natural gas to markets in the United States.

The draft EIS addresses the potential environmental effects of construction and operation of the following facilities near the City of Pascagoula in Jackson County, Mississippi:

• A ship unloading facility with a single berth capable of receiving LNG ships with cargo capacities of up to 200,000 cubic meters (m³);

• Three 160,000 m³ (net capacity) full containment LNG storage tanks;

• A closed-loop intermediate fluid vaporizer system utilizing cooling water from the adjacent Chevron Pascagoula Refinery as a heat source, sized for a normal sendout of 1.3 Bcfd;

• Various ancillary buildings and facilities;

• Five pipeline interconnects originating from a 1.5-mile-long, 36-inch-diameter spur;

• Associated pipeline support facilities, including two meter stations at interconnects with the existing pipeline systems; and

• Integrally related nonjurisdictional facilities would include a natural gas liquid (NGL) extraction system and pipeline, electric transmission lines, an electric substation, a waste heat water circulation system, and the relocation of two of the Chevron Pascagoula Refinery crude oil tanker berths.

Comment Procedures and Public Meetings

Any person wishing to comment on the draft EIS may do so. To expedite the FERC's receipt and consideration of your comments, electronic submission of comments is strongly encouraged. See 18 Code of Federal Regulations (CFR) 385.2001(a)(1)(iii) and the instructions on the FERC's Internet Web site (http://www.ferc.gov) under the eFiling link and the link to the User's Guide. Before you can submit comments, you will need to create a free account by clicking on “Sign-up” under “New User.” You will be asked to select the type of submission you are making. This type of submission is considered a “Comment on Filing.” Comments submitted electronically must be submitted by July 10, 2006.

If you wish to mail comments on the draft EIS, please mail your comments so that they will be received in Washington, DC on or before July 10, 2006 and carefully follow these instructions:

Send an original and two copies of your comments to:

• Magalie R. Salas, Secretary, Federal Energy Regulatory Commission, 888 First Street, NE., Room 1A, Washington, DC 20426.

• Reference Docket Nos. CP05-420-000 on the original and both copies;

• Label one copy of your comments for the attention of Gas Branch 2, PJ11.2; and

• Mail your comments so that they will be received in Washington, DC on or before July 10, 2006.

In lieu of or in addition to sending written comments, we invite you to attend the public comment meeting the FERC will conduct in the project area to receive comments on the draft EIS. The public comment meeting will be conducted jointly to also receive comments on the draft EIS prepared for the Clean Energy LNG Project. The meeting is scheduled as follows: Thursday, June 22, 2006, 7 p.m. (CDT), Pascagoula High School cafeteria, 1716 Tucker Avenue, Pascagoula, MS 39567. Telephone: (228) 938-6451.

The public comment meeting will be posted on the FERC's calendar located at http://www.ferc.gov/EventCalendar/EventsList.aspx. Interested groups and individuals are encouraged to attend and present oral comments on the draft EIS. A transcript of the meeting will be prepared.

After the written comments and comments from the public meeting are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference and Files Maintenance Branch, 888 First Street, NE., Room 2A, Washington, DC 20426. (202) 502-8371.

A limited number of copies of the draft EIS are available from the Public Reference and Files Maintenance Branch identified above. In addition, CD copies of the draft EIS have been mailed to Federal, state, and local agencies; elected officials; public interest groups; individuals and affected landowners; libraries; newspapers; and parties to these proceedings.

Additional information about the project is available from the Commission's Office of External Affairs, at 1-866-208-FERC or on the FERC Internet website (http://www.ferc.gov) using the eLibrary link. Click on the eLibrary link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet website also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site.

Magalie R. Salas,
Secretary.

[FR Doc. E6-8016 Filed 5-24-06; 8:45 am]

BILLING CODE 6717-01-P